DEPARTMENT OF THE TREASURY

Submission for OMB Review; Comment Request

December 12, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before January 17, 2007 to be assured of consideration.

Internal Revenue Service (IRS)

OMB Number: 1545-1551

Type of Review: Extension.

Title: Revenue Procedure 97-36, Revenue Procedure 97-38, Revenue Procedure 97-39, and Revenue Procedure 2002-9, Changes in Methods of Accounting.

Description: The information collected in the four revenue procedures is required in order for the Commissioner to determine whether the taxpayer properly is requesting to change its method of accounting and the terms and conditions of the change.

Respondents: Businesses and other for-profit institutions.

Estimated Total Burden Hours: 222,454 hours.

OMB Number: 1545-1851

Type of Review: Extension.

Title: REG-124312-02 (Final) Golden Parachute Payments.

Description: These regulations deny a deduction for excess parachute payments. A parachute payment is a payment in the nature of compensation to a disqualified individual that is contingent on a change in ownership or control of a corporation. Certain payments, including payments from a small corporation, are exempt from the definition of parachute payment if certain requirements are met (such as shareholder approval and disclosure requirements).

Respondents: Businesses and other for-profit institutions.

Estimated Total Burden Hours: 12,000 hours.

OMB Number: 1545-1096

Title: Excise Tax Program Order Blank for Forms and Publications.

Type of Review: Extension.

Form: 9117.

Description: Form 9117 allows taxpayers who must file Form 720 returns a systemic way to order additional tax forms and informational publications.

Respondents: Businesses and other for-profit institutions.

Estimated Total Burden Hours: 500 hours.

OMB Number: 1545-1143

Title: Notification of Distribution From a Generation-Skipping Trust.

Type of Review: Extension.

Form: 706-GS(D-1).

Description: Form 706-GS(D-1) is used by trustees to notify the IRS and distributees of information needed by distributees to compute the Federal GST tax imposed by IRC section 2601. IRS uses the information to enforce this tax and to verify that the tax has been properly computed.

Respondents: Individuals or Households.

Estimated Total Burden Hours: 348,800 hours.

OMB Number: 1545-1558

Title: Revenue Procedure 97-43, Procedures for Electing Out of Exemptions Under Section 1.475(c)-1; and Revenue Ruling 97-39, Mark-to-Market Accounting Method for Dealers in Securities.

Form: 1138.

Type of Review: Extension.

Description: Revenue Procedure 97-43 provides taxpayers automatic consent to change to mark-to-market accounting for securities after the taxpayer elects under section 1.475(c)-1, subject to specified terms and conditions. Revenue Ruling 97-39 provides taxpayers additional mark-to-market guidance in a question and answer format.

Respondents: Businesses and other for-profit institutions.

Estimated Total Burden Hours: 1,000 hours.

OMB Number: 1545-1145

Title: Generation-Skipping Transfer Tax Return For Terminations.

Type of Review: Extension.

Form: 706-GS(T).

Description: Form 706-GS(T) is used by trustees to compute and report the Federal GST tax imposed by IRC section 2601. IRS uses the information to enforce this tax and to verify that the tax has been properly computed.

Respondents: Individuals or households.

Estimated Total Burden Hours: 684 hours.

OMB Number: 1545-1701

Title: Revenue Procedure 2000-37 Reverse Like-kind Exchanges.

Type of Review: Extension.

Description: The revenue procedure provides a safe harbor for reverse like-kind exchanges under which a transaction using a “qualified exchange accommodation arrangement” will qualify for non-recognition treatment under Sec. 1031 of the Internal Revenue Code.

Respondents: Businesses and other for-profit institutions.

Estimated Total Burden Hours: 3,200 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E6-21504 Filed 12-15-06; 8:45 am]

BILLING CODE 4830-01-P